DEPARTMENT OF VETERANS AFFAIRS

Cancellation of Meeting; Genomic Medicine Program Advisory Committee; Notice of Meeting Cancellation

AGENCY: Department of Veterans Affairs.

The Department of Veterans Affairs gives notice under the Federal Advisory Committee Act, 5 U.S.C., App. 2, that a meeting of the Genomic Medicine Program Advisory Committee, previously scheduled to be held in Room 230, on June 30, 2015, at the Department of Veterans Affairs, 810 Vermont Avenue NW., Washington, DC, is hereby cancelled. The Notice of Meeting appeared in the Federal Register on May 22, 2015, on page 29793.

If you have any questions, please contact Sumitra Muralidhar, Designated Federal Officer, at Sumitra.muralidhar@va.gov or on (202) 443-5679.

Dated: June 15, 2015.
Rebecca Schiller,
Committee Management Officer.

[FR Doc. 2015-14990 Filed 6-17-15; 8:45 am]

BILLING CODE 8320-01-P